DEPARTMENT OF HEALTH AND HUMAN SERVICES

National Institutes of Health

Center for Scientific Review Amended Notice of Meeting

Notice is hereby given of a change in the meeting of the Basic Mechanisms of Cancer Health Disparities Study Section, June 21, 2023, 9:00 a.m. to June 22, 2023, 8:00 p.m. at the National Institutes of Health, Rockledge II, 6701 Rockledge Drive, Bethesda, MD 20892, (Virtual Meeting), which was published in the Federal Register on May 22, 2023, 88 FR 32778, Doc 2023-10842.

This meeting is being amended to make this a single day meeting on 6/21/2023. The meeting is closed to the public.

Dated: June 7, 2023.
Miguelina Perez,
Program Analyst, Office of Federal Advisory Committee Policy.

[FR Doc. 2023-12450 Filed 6-9-23; 8:45 am]

BILLING CODE 4140-01-P